DEPARTMENT OF AGRICULTURE

National Institute of Food and Agriculture

Application Package and Reporting Requirements for the Veterinary Medicine Loan Repayment Program (VMLRP)

AGENCY: National Institute of Food and Agriculture, USDA.

ACTION: Notice and request for comments.

SUMMARY: The National Institute of Food and Agriculture (NIFA), as part of its compliance with the requirement of Section 3506(c)(2)(A) of the Paperwork Reduction Act of 1995, invites the general public to comment on proposed information collection for the Veterinary Medicine Loan Repayment Program (VMLRP). This Notice initiates a 60-day comment period and prescribes the proposed application forms and program reporting requirements for the VMLRP that will be submitted to the Office of Management and Budget (OMB) for review and approval. The NIFA may not conduct or sponsor, and the respondent is not required to respond to, a collection of information unless the collection of information displays a valid OMB control number.

DATES: Comments regarding this information collection must be received on or before March 22, 2010 to be assured of having their full effect.

ADDRESSES: You may submit comments by any of the following methods:

Federal eRulemaking Portal: http://www.regulations.gov. Follow the instructions for submitting comments.

E-mail: vmlrp@nifa.usda.gov. Include the text “VMLRP Application Forms” in the subject line of the message.

Fax: (202) 401-7752.

Mail: paper, disk or CD-ROM submissions should be submitted to National Institute of Food and Agriculture; U.S. Department of Agriculture; STOP 2299; 1400 Independence Avenue, SW; Washington, DC 20250-2299.

Hand Delivery/Courier: National Institute of Food and Agriculture; U.S. Department of Agriculture; Room 2258, Waterfront Centre; 800 9th Street, SW; Washington, DC 20024.

Instructions: All comments received will be posted without change to http://www.regulations.gov, including any personal information provided.

FOR FURTHER INFORMATION CONTACT: Gary Sherman; National Program Leader, Veterinary Science; National Institute of Food and Agriculture; U.S. Department of Agriculture; STOP 2220; 1400 Independence Avenue, SW.; Washington, DC 20250-2220; Voice: 202-401-4952; Fax: 202-401-6156; E-mail: gsherman@nifa.usda.gov.

SUPPLEMENTARY INFORMATION:

Proposed Collection

Title: Application Package and Reporting Requirements for the Veterinary Medicine Loan Repayment Program (VMLRP).

Abstract: NIFA is proposing these application forms and reporting requirements for the Veterinary Medicine Loan Repayment Program (VMLRP) as authorized under section 1415A of the National Agricultural Research, Extension, and Teaching Policy Act of 1977 (NARETPA). This information collection applies to Subpart B of 7 CFR Part 3431.

Type of Information Collection Request: Intent to request OMB approval to establish a new information collection for VMLRP applications. Form Numbers: NIFA-01-10 Applicant Information, NIFA-02-10 Personal Statement, NIFA-03-10 List of Recommenders, NIFA-04-10 Loan Information Form, NIFA-05-10 Contract, NIFA-06-10 Certifications for Application, NIFA-07-10 Intent of Employment, NIFA-08-10 Recommendation Form.

Need and Use of the Information: The NIFA will carry out NVMSA by entering into educational loan repayment agreement with veterinarians who agree to provide veterinary services in veterinarian shortage situations for a determined period of time. The information proposed for collection permits the NIFA to request from VMLRP applicants information related to eligibility, qualifications, career interests, and recommendations necessary to evaluate their applications for repayment of educational indebtedness in return for agreeing to provide veterinary services in veterinarian shortage situations. The information proposed for collection will also be used to determine an applicant's eligibility for participation in the program. NIFA plans to publish a Request for Applications (RFA) for VMLRP loan repayment applications from individual veterinarians. These forms will be made available at the NIFA VMLRP website as a PDF-fillable document (to be printed and then returned by fax or mail), and includes questions requiring check boxes or text with a word limitation to minimize the burden for applicants and reviewers. Submitted application forms will be reviewed and evaluated by a peer panel according to the criteria identified in the published RFA.

Method of Collection: Collection allows program applicants to make all submissions by fax, courier, or regular mail. The information collection is required of all applicants who request to enter into an agreement with the Secretary of USDA for VMLRP participation. NIFA plans to provide a web-based option within two years, to allow applicants to complete and submit their applications online.

Frequency of Response: Annual application.

Affected Public: Applicants, recommenders, financial institutions, and employers of applicants.

Type of Respondents: Applicants, Veterinarians, organizational officials, and employers of applicants.

The estimated annual reporting burden is as follows:

Type of respondents | Number of respondents | Estimated number of responses per respondent | Average burden hours per response | Annual burden hours requested
Applicants:
Applicant Information | 100 | 1 | 1 | 100
Personal Statement | 100 | 1 | 6 | 600
List of Recommenders | 100 | 1 | .5 | 50
Loan Information | 100 | 2 | .5 | 100
Contract | 100 | 1 | .25 | 25
Certification for Applications | 100 | 1 | .25 | 25
Intent of Employment | 100 | 1 | 1 | 100
Applicants subtotal | 100 |  |  | 1,000
Recommenders:
Recommendation | 300 | 1 | 1 | 300
Recommenders subtotal | 300 | 1 | 1 | 300
Financial Institutions:
Loan Information | 200 | 1 | .25 | 50
Financial Institutions subtotal | 200 | 1 | .25 | 50
Grand Total | 600 |  |  | 1,350

Request for Comments: Comments submitted in response to this notice will be summarized and/or included in the request for OMB approval of the information collection. All comments will become a matter of public record.

Comments are invited on: (a) Whether the proposed collection of information is necessary for the proper performance of the functions of the VMLRP, including whether the information will have practical utility; (b) the accuracy of the public burden estimate (the estimated amount of time needed for individual respondents to provide the requested information), including the validity of the methodology and assumptions used; (c) ways to enhance the quality, utility, and clarity of the information to be collected; (d) ways to minimize the public burden through the use of appropriate automated, electronic, mechanical, or other technological collection techniques or other forms of information technology; and (e) estimates of capital or start-up costs and costs of operation, maintenance, and purchase of services to provide information.

Obtaining a Copy of the Information Collection: A copy of the information collection is available at the VMLRP Web site: http://www.nifa.usda.gov/vmlrp.

Proposed VMLRP Application Forms and Reporting Requirements

Pursuant to the requirements enacted in the NVMSA of 2004 (as revised), and the implementing regulation for this Act, the National Institute of Food and Agriculture hereby proposes to implement:

I. Application Forms

The following forms are to be completed and submitted by the applicant by the established deadline.

(a) Applicant Information Form: Collects relevant identifying, contact, and employment information from the applicant. Authorizes the disclosure of information that confirms the applicant is not under a service obligation or has a Federal judgment lien against his/her property.

(b) Personal Statement: Includes a discussion of applicant knowledge, skills, abilities, and experience relative to the shortage situation applied for.

(c) List of Recommenders: Identifies colleagues that can speak to the applicant's capability to fulfill program obligations. A minimum of three recommendations is required for each application.

(d) Loan Information Form: Authorizes the disclosure of information to the lenders and their authorized collection agents to confirm that the applicant's loans are current in their repayment status.

(e) Contract: A legal agreement that binds the selected applicant and the Secretary of USDA and/or NIFA Director to the terms and conditions for participation in the VMLRP, including obligations of both parties.

(f) Certifications for Application: Validates the contractual agreement, accuracy of information provided by the applicant, and request for confidential recommendations.

(g) Intent of Employment: Section 1 provides information on the shortage situation the applicant intends to fill upon receipt of a VMLRP award. Section 2 confirms the applicant's ability to secure an offer of employment or establish and/or maintain a practice in a veterinary shortage situation within the time period specified in the VMLRP service agreement offer.

II. Recommendation Form

To be completed and submitted by colleagues identified by the applicant no later than 15 days after the established application deadline. Includes ratings and short answers to assess applicant's capabilities to provide veterinary services in the specific shortage situation the applicant is applying for. At least three separate recommendations are required.

III. Reporting Requirements

Program participants will be required to verify that the terms of the VMLRP contract are being met on a quarterly basis. Subsequent quarterly loan repayments will not be disbursed until this verification is provided. This report will be due ten business days after the end of each three month interval during the VMLRP contract for the previous three month period and must include:

(a) A listing of states, counties, and/or insular areas served.

(b) A listing of veterinary services and activities provided in the shortage situation.

(c) Percentage time (on a 40-hour week basis) providing service to veterinary shortage situation identified in the agreement.

Program participants are responsible for notifying NIFA of any changes in the service being provided in the specified shortage situation during the three-year period. It is strongly recommended that program participants advise NIFA of these changes at least two months in advance to allow sufficient processing time. Failure to provide the updated information may result in the termination of the VMLRP contract and the program participant may be subject to penalties as outlined in Section C, Paragraph 3 of the contract.

Done at Washington, DC, January 12, 2010.
Dr. Molly Jahn,
Acting Under Secretary for Research, Education, and Economics.

[FR Doc. 2010-904 Filed 1-19-10; 8:45 am]

BILLING CODE 3410-22-P